DEPARTMENT OF DEFENSE

Defense Acquisition Regulations System

[Docket Number DARS-2020-0046; OMB Control Number 0704-0214]

Information Collection Requirement; Defense Federal Acquisition Regulation Supplement Part 217, Special Contracting Methods, and Related Clauses at 252.217

AGENCY: Defense Acquisition Regulations System, Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: Whether the proposed collection of information is necessary for the proper performance of the functions of DoD, including whether the information will have practical utility; the accuracy of the estimate of the burden of the proposed information collection; ways to enhance the quality, utility, and clarity of the information to be collected; and ways to minimize the burden of the information collection on respondents, including the use of automated collection techniques or other forms of information technology. The Office of Management and Budget (OMB) has approved this information collection requirement for use through April 30, 2021. DoD proposes that OMB extend its approval for three additional years beyond the current expiration date.

DATES: DoD will consider all comments received by March 1, 2021.

ADDRESSES: You may submit comments, identified by OMB Control Number 0704-0214, using any of the following methods:

○ Federal eRulemaking Portal: https://www.regulations.gov. Follow the instructions for submitting comments.

○ Email: osd.dfars@mail.mil. Include OMB Control Number 0704-0214 in the subject line of the message.

○ Mail: Defense Acquisition Regulations System, Attn: Ms. Carrie Moore, OUSD(A&S)DPC(DARS), 3060 Defense Pentagon, Room 3B938, Washington, DC 20301-3060.

Comments received generally will be posted without change to https://www.regulations.gov, including any personal information provided.

FOR FURTHER INFORMATION CONTACT: Ms. Carrie Moore, 571-372-6093.

SUPPLEMENTARY INFORMATION:

Title and OMB Control Number: Defense Federal Acquisition Regulation Supplement (DFARS) Part 217, Special Contracting Methods, and related clauses at 252.217; OMB Control Number 0704-0214.

Type of Request: Extension.

Obligation to Respond: Required to obtain or retain benefits.

Affected Public: Businesses or other for-profit and not-for- profit institutions.

Number of Respondents: 5,859.

Responses per Respondent: 5.

Annual Responses: 29,295.

Average Burden per Response: 8.

Annual Burden Hours: 234,360.

Reporting Frequency: On occasion.

Needs and Uses: DFARS part 217 prescribes policies and procedures for acquiring supplies and services by special contracting methods. Contracting officers use the required information as follows:

DFARS 217.7004(a)—When solicitations permit the exchange (or trade-in) of personal property and application of the exchange allowance to the acquisition of similar property, offerors must provide the prices for the new items being acquired both with and without any exchange. Contracting officers use the information to make an informed decision regarding the reasonableness of the prices for both the new and trade-in items.

DFARS 217.7404-3(b)—When awarded an undefinitized contract action, contractors are required to submit a qualifying proposal in accordance with the definitization schedule provided in the contract. Contracting officers use this information to complete a meaningful analysis of a contractor's proposal in a timely manner.

DFARS 217.7505(d)—When responding to sole source solicitations that include the acquisition of replenishment parts, offerors submit price and quantity data on any Government orders for the replenishment part(s) issued within the most recent 12 months. Contracting officers use this information to evaluate recent price increases for sole source replenishment parts.

DFARS clause 252.217-7012—Included in master agreements for repair and alteration of vessels, paragraph (d) of the clause requires contractors to show evidence of insurance under the agreement. Contracting officers use this information to ensure contractor is adequately insured when performing work under the agreement. Paragraphs (f) and (g) of the clause require contractors to notify the contracting officer of any property loss or damage for which the Government is liable under the agreement and submit a request, with supporting documentation, for reimbursement of the cost of replacement or repair. Contracting officers use this information to stay informed of lost or damaged property for which the Government is liable, and to determine the appropriate course of action for replacement or repair of the property.

DFARS provision 252.217-7026—Included in certain solicitations for supplies that are being acquired under other than full and open competition, the provision requires the apparently successful offeror to identify their sources of supply so that competition can be enhanced in future acquisitions.

DFARS clause 252.217-7028—When performing under contracts for overhaul, maintenance, and repair, contractors must submit a work request and proposal for “over and above” work that is within the scope of the contract, but not covered by the line item(s) under the contract, and necessary in order to satisfactorily complete the contract. This requirement allows the Government to review the need for pending work before the contractor begins performance.

Jennifer D. Johnson,
Regulatory Control Officer, Defense Acquisition Regulations System.

[FR Doc. 2020-28964 Filed 12-30-20; 8:45 am]

BILLING CODE 5001-06-P